DEPARTMENT OF TRANSPORTATION

Research and Special Programs Administration

International Standards on the Transport of Dangerous Goods; Public Meetings

AGENCY: Research and Special Programs Administration (RSPA), Department of Transportation.

ACTION: Notice of public meeting.

SUMMARY: This notice is to advise interested persons that RSPA will conduct a public meeting in preparation for the nineteenth meeting of the International Civil Aviation Organization's Dangerous Goods Panel (ICAO DGP) to be held October 27-November 7, 2003 in Montreal, Canada.

DATES: October 15, 10 a.m.-12:30 p.m., Room 8440.

ADDRESSES: The meeting will be held at DOT Headquarters, Nassif Building, 400 Seventh Street SW., Washington, DC 20590.

FOR FURTHER INFORMATION CONTACT: Bob Richard, International Standards Coordinator, Office of Hazardous Materials Safety, Department of Transportation, Washington, DC 20590; (202) 366-0656.

SUPPLEMENTARY INFORMATION: The purpose of the meeting will be to prepare and discuss draft positions for the nineteenth meeting of the Dangerous Goods Panel. Topics to be covered during the public meeting will include: (1) Amendments for the 2005-2006 edition of the ICAO Technical Instructions; (2) Harmonization of the ICAO TI with the 13th revised edition of the UN Model Regulations on the Transport of Dangerous Goods; (3) Requirements for infectious substances; (4) Training; (5) Dangerous goods security requirements; (6) revision of the packing instructions; (7) the air eligibility marking requirement; and (8) Dangerous goods carried by passengers and crew members.

The public is invited to attend without prior notification.

Issued in Washington, DC, on September 26, 2003.
Robert A. McGuire,
Associate Administrator for Hazardous Materials Safety.

[FR Doc. 03-24964 Filed 9-1-03; 8:45 am]

BILLING CODE 4910-60-M